DEPARTMENT OF AGRICULTURE

Submission for OMB Review; Comment Request

October 29, 2013.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by December 2, 2013 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

Animal and Plant Health Inspection Service

Title: Customer Service Survey Project.

OMB Control Number: 0579-0334.

Summary of Collection: The Animal Health Protection Act of 2002 (7, U.S.C. 8301, et seq.), authorizes the Secretary of the U.S. Department of Agriculture to prevent, control and eliminate domestic diseases such as tuberculosis and brucellosis and to take actions to prevent and to manage foreign animal diseases such as hog cholera, foot-and-mouth disease. The Veterinary Services (VS) program of the Animal and Plant Health Inspection Service (APHIS), USDA, carries out this work. This information collection solicits the beliefs and opinions of persons who use VS services and products. The survey is required to solicit information from the general public who utilize the business services and animal programs administered by the USDA, APHIS, and VS.

Need and Use of the Information: The data collected from the survey will provide the local Area Office Manager with a general view of the public's perception of customer service and indicate problems which can be addressed locally. The survey will also provide feedback from the public on recommendations to improve upon customer service and provide a vehicle in which questions can be asked about VS to educate the public.

Description of Respondents: Business or other for-profit; Farms; Individuals or households; Not-for-profit institutions; State, Local or Tribal Government.

Number of Respondents: 5,000.

Frequency of Responses: Reporting: On occasion.

Total Burden Hours: 248.

Ruth Brown,
Departmental Information Collection Clearance Officer.

[FR Doc. 2013-26143 Filed 10-31-13; 8:45 am]

BILLING CODE 3410-34-P